FEDERAL COMMUNICATIONS COMMISSION

Public Information Collection Approved by Office of Management and Budget

AGENCY: Federal Communications Commission.

ACTION: Notice; OMB approval.

SUMMARY: The Federal Communications Commission has received Office of Management and Budget (OMB) approval for the revised public information collection, Commercial Availability of Navigation Devices, OMB Control Number 3060-0849. Therefore, the Commission announces that OMB Control No. 3060-0849 is effective March 16, 2004.

DATES: Effective March 16, 2004.

SUPPLEMENTARY INFORMATION: The Federal Communications Commission has received OMB approval for a revised information collection Commercial Availability of Navigation Devices, OMB Control Number 3060-0849, 68 FR 38040, June 26, 2003, which now includes progress reports to be filed by the cable and consumer electronic industries with respect to ongoing inter industry negotiations that may affect the technical specifications for navigation devices. The effective date for collection of the progress reports is March 16, 2004. Through this document, the Commission announces that it received this approval; OMB Control No. 3060-0849.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Leslie F. Smith, Federal Communications Commission, (202) 418-0217 or via the Internet at leslie.smith@fcc.gov.

Federal Communications Commission.
Marlene H. Dortch,
Secretary.

[FR Doc. 04-5906 Filed 3-15-04; 8:45 am]

BILLING CODE 6712-01-P